DEPARTMENT OF DEFENSE

Office of the Secretary

[Docket ID: DoD-2023-OS-0043]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 19, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Exceptional Family Member Program; DD Form 2792, “Family Member Medical Summary,” and DD Form 2792-1, “Special Education/Early Intervention Summary”; OMB Control Number 0704-0411.

Type of Request: Extension.

Number of Respondents: 98,608.

Responses per Respondent: 1.

Annual Responses: 98,608.

Average Burden per Response: 9.5 minutes.

Annual Burden Hours: 15,617.

Needs and Uses: This information collection is necessary to identify any special medical (DD Form 2792) and/or educational (DD Form 2792-1) needs of military dependents to ensure the needs are considered when being assigned to a new location. The purpose of this information collection is to (1) enroll sponsors into the Exceptional Family Member Program (EFMP), (2) consider the special needs of family members and the availability of medical and educational services through the Family Member Travel Screening (FMTS) process, and (3) advise civilian employees about the availability of medical and educational services to meet the special needs of their family members in overseas locations.

The sponsor or family member completes the demographics section on both collections, a qualified medical provider completes the medical summary on the DD 2792, and the special education or early intervention staff completes the early intervention/special education summary of the DD 2792-1. On the DD2792, the sponsor or family member provides authorization for disclosure of the medical information and certifies the accuracy of the information. On the DD 2792-1, the sponsor or family member authorizes the release of information. The information is provided to EFMP medical personnel for enrollment in the program, and both medical and educational screening personnel for their determination of the availability of medical and education resources necessary to meet the family member's needs. The medical and/or educational recommendation is supplied to the appropriate Military Department's personnel department in determining the future assignment for the service member.

This information collection may also be used to identify available medical and educational resources to DoD civilian employees who are considering a job overseas to assist them in deciding whether to relocate overseas with a family member who has special medical or educational needs.

Affected Public: Individuals or households.

Frequency: Triennial.

Respondent's Obligation: Required to obtain or retain benefits.

OMB Desk Officer: Ms. Jasmeet Seehra.

DOD Clearance Officer: Ms. Angela Duncan.

Requests for copies of the information collection proposal should be sent to Ms. Duncan at whs.mc-alex.esd.mbx.dd-dod-information-collections@mail.mil.

Dated: September 13, 2023.
Aaron T. Siegel,
Alternate OSD Federal Register Liaison Officer, Department of Defense.

[FR Doc. 2023-20254 Filed 9-18-23; 8:45 am]

BILLING CODE 5001-06-P